DEPARTMENT OF COMMERCE

Bureau of Export Administration

Application for Duplicate License

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 19, 2000.

ADDRESSES: Direct all written comments to Linda Engelmeier, Departmental Forms Clearance Officer, Department of Commerce, Office of the Chief Information Officer, Room 5027, 14th and Constitution Avenue, NW, Washington, DC 20230.

FOR FURTHER INFORMATION CONTACT: Requests for additional information or copies of the information collection instrument(s) and instructions should be directed to Dawnielle Battle, BXA ICB Liaison, Department of Commerce, Office of Planning, Evaluation and Management, Room 6881, 14th and Constitution Avenue, NW, Washington, DC 20230.

SUPPLEMENTARY INFORMATION:

I. Abstract

This collection of information is necessary to identify original export licenses of respondents who request duplicate licenses for lost or destroyed licenses. The licensee must submit a letter certifying that the original license issued to a licensee has been lost or destroyed. They must provide the circumstances under which it was lost or destroyed, and if found, will return either the original or the duplicate to BXA. All other record keeping requirements pertaining to the original license remain in effect for duplicate licenses.

II. Method of Collection

Written submission.

III. Data

OMB Number: 0694-0031.

Form Number: None.

Type of Review: Regular Submission.

Affected Public: Businesses and other for-profit institutions, small businesses or organizations.

Estimated Number of Respondents: 26.

Estimated Time Per Response: 16 minutes.

Estimated Total Annual Burden Hours: 7 hours.

Estimated Total Annual Cost to Public: No start-up costs or capital expenditures.

IV. Request for Comments

Comments are invited on: (a) Whether the proposed collection of information is necessary for the proper performance of the function of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 13, 2000.
Linda Engelmeier,
Departmental Forms Clearance Officer, Office of the Chief Information Officer.

[FR Doc. 00-9784 Filed 4-18-00; 8:45 am]

BILLING CODE 3510-33-P